DEPARTMENT OF DEFENSE

Office of the Secretary

[Transmittal No. 21-03]

Arms Sales Notification

AGENCY: Defense Security Cooperation Agency, Department of Defense (DoD).

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 21-03 with attached Policy Justification and Sensitivity of Technology.

Dated: December 18, 2020.
Aaron T. Siegel,
Alternate OSD Federal Register Liaison Officer, Department of Defense.

BILLING CODE 5001-06-P

BILLING CODE 5001-06-C

Transmittal No. 21-03

Notice of Proposed Issuance of Letter of Offer Pursuant to Section 36(b)(1) of the Arms Export Control Act, as amended

(i) Prospective Purchaser: Government of the United Arab Emirates

(ii) Total Estimated Value:

Major Defense Equipment * | $6.4 billion
Other | $3.6 billion
Total | $10.0 billion

(iii) Description and Quantity or Quantities of Articles or Services under Consideration for Purchase: Weapons are for Multi-Platform Aircraft with Up-To Quantities:

Major Defense Equipment (MDE):

Eight hundred two (802) AIM-120C8 Advanced Medium Range Air-to-Air

Missiles (AMRAAM)

Sixteen (16) AIM-120C8 AMRAAM Guidance Sections Spares

Two thousand four (2,004) MK-82 500LB General Purpose (GP) Bombs

Seventy-two (72) MK-82 Inert 500LB GP Bombs

One thousand (1,000) MK-84 2,000LB GP Bombs

One thousand two (1,002) MK-83 1,000LB GP Bombs

Two thousand five hundred (2,500) Small Diameter Bomb Increment 1 (SDB-1), GBU-39/B, with CNU-659/E Container

Eight (8) GBU-39 SDB-1 Guided Test Vehicles

Two thousand (2,000) KMU-572 Joint Direct Attack Munition (JDAM) Tail Kit for 500LB Bombs

One thousand (1,000) KMU-556 JDAM Tail Kit for 2,000LB Bombs

One thousand (1,000) KMU-559 JDAM Tail Kit for 1,000LB Bombs

Four thousand (4,000) FMU-139 Fuze Systems

Six hundred fifty (650) AGM-154C Joint Stand Off Weapons (JSOWs)

Fifty (50) AGM-154E Joint Stand Off Weapons - Extended Range (JSOW-ER)

One hundred fifty (150) AGM-88E Advanced Anti-Radiation Guided Missile (AARGM) Tactical Missiles

Six (6) CATM-88 AARGM CATMs

Non-MDE:

Also included are six (6) AGM-154C JSOW-C Captive Air Training Missiles (CATMs); six (6) AGM-154E JSOW-ER CATMs; ARD 446-1B and ARD 863-1A1W Impulse Cartridges; JSOW-C Dummy Air Training Missiles (DATM); JSOW-C Captive Flight Vehicles (CFVs); JSOW-ER DATMs; JSOW-ER CFVs; PGU-23/U training ammunition, encryption devices and keying equipment for test missiles (not for export); Laser Illuminated Target Detector, DSU-38A/B; software delivery and support; AIM-120C Captive Air Training Missiles (CATM) and Airborne Instrumented Units (AIU) Telemetry Sections; missile containers; munitions components; aircraft test and integration support; containers; mission planning; munitions security, storage and training; facility design, construction and quality standards; weapon operational flight program software development; transportation; tools and test equipment; support equipment; spare and repair parts; weapons and aircraft integration support and test equipment; publications and technical documentation; personnel training and training equipment, devices and software; U.S. Government and contractor engineering, technical and logistics support services; site surveys; and other related elements of logistics and program support.

(iv) Military Department: Air Force (AE-D-YAF, AE-D-QAM); Navy (AE-P-ABN, AE-P-ABO, AE-P-ABP, AE-P-ABQ)

(v) Prior Related Cases, if any: AE-D-YAB, AE-D-YAC, AE-D-AAD, AE-D-AAE, AE-D-AAF, and AE-P-ABE

(vi) Sales Commission, Fee, etc., Paid, Offered, or Agreed to be Paid: None

(vii) Sensitivity of Technology Contained in the Defense Article or Defense Services Proposed to be Sold: See Attached Annex

(viii) Date Report Delivered to Congress: November 09, 2020

* As defined in Section 47(6) of the Arms Export Control Act.

POLICY JUSTIFICATION

United Arab Emirates—Munitions, Sustainment and Support

The Government of the United Arab Emirates (UAE) has requested to buy eight hundred two (802) AIM-120C8 Advanced Medium Range Air-to-Air Missiles (AMRAAM); sixteen (16) AIM-120C8 AMRAAM guidance sections spares; two thousand four (2,004) MK-82 500LB General Purpose (GP) Bombs; seventy-two (72) MK-82 Inert 500LB GP Bombs; one thousand (1,000) MK-84 2,000LB GP Bombs; one thousand two (1,002) MK-83 1,000LB GP Bombs; two thousand five hundred (2,500) Small Diameter Bomb Increment 1 (SDB-1), GBU-39/B, with CNU-659/E Container; eight (8) GBU-39 SDB-1 Guided Test Vehicles; two thousand (2,000) KMU-572 Joint Direct Attack Munition (JDAM) Tail Kit for 500LB Bombs; one thousand (1,000) KMU-556 JDAM Tail Kit for 2,000LB Bombs; one thousand (1,000) KMU-559 JDAM Tail Kit for 1,000LB Bombs; four thousand (4,000) FMU-139 Fuze systems; six hundred fifty (650) AGM-154C Joint Stand Off Weapons (JSOWs); fifty (50) AGM-154E Joint Stand Off Weapons - Extended Range (JSOW-ER); one hundred fifty (150) AGM-88E Advanced Anti-Radiation Guided Missile (AARGM) Tactical Missiles; six (6) CATM-88 AARGM CATMs. Also included are six (6) JSOW-C AGM-154C Captive Air Training Missiles (CATMs); six (6) JSOW-ER AGM-154E CATMs; ARD 446-1B and ARD 863-1A1W Impulse Cartridges; JSOW-C Dummy Air Training Missiles (DATM); JSOW-C Captive Flight Vehicles (CFVs); JSOW-ER DATMs; JSOW-ER CFVs; PGU-23/U training ammunition, encryption devices and keying equipment for test missiles (not for export); Laser Illuminated Target Detector, DSU-38A/B; software delivery and support; AIM-120C Captive Air Training Missiles (CATM) and Airborne Instrumented Units (AIU) Telemetry Sections; missile containers; munitions components; aircraft test and integration support; containers; mission planning; munitions security, storage and training; facility design, construction and quality standards; weapon operational flight program software development; transportation; tools and test equipment; support equipment; spare and repair parts; weapons and aircraft integration support and test equipment; publications and technical documentation; personnel training and training equipment, devices and software; U.S. Government and contractor engineering, technical and logistics support services; site surveys; and other related elements of logistics and program support. The total estimated cost is $10.0 billion.

This proposed sale will support the foreign policy and national security of the United States by helping to improve the security of an important regional partner. The UAE has been, and continues to be, a vital U.S. partner for political stability and economic progress in the Middle East.

The proposed sale will improve the UAE's capability to meet current and future threats by providing enhanced capabilities to various aircraft platforms in effective defense of air, land, and sea. The proposed sale of the missiles/munitions and support will increase interoperability with the U.S. and align the UAE Air Force's capabilities with existing regional baselines. Further, the UAE continues to provide host-nation support of vital U.S. forces stationed in the UAE and plays a vital role in supporting U.S. regional interests. The UAE will have no difficulty absorbing these weapons into its armed forces.

The proposed sale of this equipment and support represents a significant increase in capability and will alter the regional military balance.

The principal contractors will be Raytheon, Tucson, AZ; and Northrop Grumman Information Systems, Ridgecrest, CA. If requested, F-16 integration will be completed via Direct Commercial Sale (DCS) between Lockheed Martin and the purchaser. The munitions will be sourced through procurement and the contractor determined during contract negotiations. There are no known offset agreements proposed in connection with this potential sale. However, the purchaser typically requests offsets. Any offset agreements will be defined in negotiations between the purchaser and the contractor(s).

Implementation of this proposed sale will require annual trips to the UAE involving U.S. Government and contractor representatives for technical reviews, support, and oversight.

There will be no adverse impact on U.S. defense readiness as a result of this proposed sale.

Transmittal No. 21-03

Notice of Proposed Issuance of Letter of Offer Pursuant to Section 36(b)(1) of the Arms Export Control Act, as amended

Annex

Item No. vii

(vii) Sensitivity of Technology:

1. The AIM-120C-7/C-8 Advanced Medium Range Air-to-Air Missile (AMRAAM) is a supersonic, air launched, aerial intercept, guided missile featuring digital technology and micro-miniature solid-state electronics. The potential sale will include AMRAAM Guidance Sections. AMRAAM capabilities include look-down/shoot-down, multiple launches against multiple targets, resistance to electronic countermeasures, and interception of high- and low-flying and maneuvering targets. The AIM-120C-8 is a form, fit, function refresh of the AIM-120C-7 and is the next generation to be produced.

2. The AMRAAM NDI-Airborne Instrumented Unit (AIU) telemetry set replaces the missile's warhead, thus allowing for secured telemetered test shots. The NDI-AIU telemetry set is non-exportable and will remain under the control of the U.S. Government or U.S. Defense Contractor.

3. The MK-82 General Purpose (GP) bomb is a 500 pound, free-fall, unguided, low-drag weapon. The MK-82 is designed for soft, fragment-sensitive targets and is not intended for hard targets or penetrations. The explosive filling is usually tritonal, though other compositions have sometimes been used.

4. MK-82 Inert General Purpose (GP) bomb is a 500 pound, free-fall, unguided, low-drag inert weapon used for integration testing. There is no explosive fill.

5. The MK-83 General Purpose (GP) bomb is a 1,000 pound, free-fall, unguided, low-drag weapon. The MK-83 is designed for soft, fragment-sensitive targets and is not intended for hard targets or penetrations. The explosive filling is usually tritonal, though other compositions have sometimes been used.

6. The MK-84 General Purpose (GP) bomb is a 2,000 pound, free-fall, unguided, low-drag weapon. The MK-84 is designed for soft, fragment sensitive targets and is not intended for hard targets or penetrations. The explosive filling is usually tritonal, though other compositions have sometimes been used.

7. The GBU-39 Small Diameter Bomb Increment 1 (SDB-1) is a 250-pound, GPS-aided inertial navigation system, small autonomous, day or night, adverse weather, conventional, air-to-ground precision glide weapon able to strike fixed and stationary re-locatable non-hardened targets from standoff ranges. It is intended to provide aircraft with an ability to carry a high number of bombs. Aircraft are able to carry four SDBs in place of one 2,000-pound bomb.

8. The Joint Direct Attack Munitions (JDAM) is a guidance set which converts existing unguided bombs (MK-82, MK-83, MK-84, BLU-109, BLU-110, BLU-111, BLU-117, BLU-126 (Navy) or BLU-129 warhead) into an accurate, adverse weather “smart” munition. The Guidance Set consists of a Tail Kit, which contains the Inertial Navigation System (INS) and a Global Positioning System (GPS), a set of Aerosurfaces and an umbilical cover, which allows the JDAM to improve the accuracy of unguided, General Purpose bombs. The JDAM weapon can be delivered from modest standoff ranges at high or low altitudes against a variety of land and surface targets during the day or night. JDAM is capable of receiving target coordinates via preplanned mission data from the delivery aircraft, by onboard aircraft sensors (i.e., FLIR, Radar, etc.) during captive carry, or from a third-party source via manual or automated aircrew cockpit entry. The Guidance Set, when combined with a warhead and appropriate fuze, forms a JDAM Guided Bomb Unit (GBU).

a. (U) The KMU-572F/B is the tailkit for a GBU-38 500LB JDAM.

b. (U) The KMU-559B/B is the tailkit for a GBU-32 1000LB JDAM.

c. (U) The KMU-556B/B is the tailkit for a GBU-31 2000LB JDAM.

9. The Laser JDAM (GBU-54) converts existing unguided free-fall bombs into precision-guided “smart” munitions by adding a new tail section containing Inertial Navigation System (INS) guidance/Global Positioning System (GPS) guidance and adds a semi-active laser seeker. This allows the weapon to strike targets moving at up to 70 mph. The LJDAM weapon consists of a DSU-38 sensor, a JDAM guidance set installed on the bomb body, and a fuze. The DSU-38 consists of a laser spot tracker (same size and shape as a DSU-33 proximity fuze), a cable connecting the DSU-38 to the basic JDAM guidance set, a cable cover, cable cover tie-down straps, modified tail kit door and wiring harness, and associated modified JDAM software that incorporates navigation and guidance flight software to support both LJDAM and standard JDAM missions.

10. The Joint Programmable Fuze (JPF) FMU-139 is a multi-delay, multi-arm and proximity sensor compatible with general purpose blast, frag and hardened-target penetrator weapons. The JPF settings are cockpit selectable in flight when used numerous precision-guided weapons. It can interface with the following weapons: GBU-31, GBU-32, GBU-38, and GBU-54.

11. The AGM-154 JSOW is used by the U.S. Navy, U.S. Marine Corps, and U.S. Air Force, and allows aircraft to attack well-defended targets in day, night, and adverse weather conditions. The AGM-154C carries a BROACH warhead. The BROACH warhead incorporates an advanced multi stage warhead. The JSOW uses the GPS Precise Positioning System (PPS), which provides for a more accurate capability than the commercial version of GPS.

12. The JSOW-C utilizes GPS/INS guidance and an uncooled imaging infrared seeker for terminal guidance, Autonomous Acquisition, and provides a precision targeting, 500-pound-class tandem warhead that is the U.S. Navy's primary standoff weapon against hardened targets.

13. The AGM-154E JSOW-ER adds an engine, and supporting components, to the JSOW C Airframe. The JSOW-ER uses the 300-pound Maverick Warhead due to its smaller size, thereby creating room for fuel, but maintains the same penetration capability as the JSOW C.

14. The AGM-88E Advanced Anti-Radiation Guided Missile (AARGM) weapon system is an air-to-ground missile intended for Suppression of Enemy Air Defenses (SEAD) and Destruction of Enemy Air Defenses (DEAD) missions. The AARGM provides suppression or destruction of enemy RADAR and denies the enemy the use of air defense systems, thereby improving the survivability of tactical aircraft.

15. The highest level of classification of defense articles, components, and services included in this potential sale is SECRET.

16. If a technologically advanced adversary were to obtain knowledge of the specific hardware and software elements, the information could be used to develop countermeasures that might reduce weapon system effectiveness or be used in the development of a system with similar or advanced capabilities.

17. A determination has been made that the UAE can provide substantially the same degree of protection for the sensitive technology being released as the U.S. Government. This sale is necessary in furtherance of the U.S. foreign policy and national security objectives outlined in the Policy Justification.

18. All defense articles and services listed in this transmittal have been authorized for release and export to the Government of the United Arab Emirates.

[FR Doc. 2020-28495 Filed 12-23-20; 8:45 am]

BILLING CODE 5001-06-P